DEPARTMENT OF HOMELAND SECURITY

Federal Emergency Management Agency

[Docket ID FEMA-2026-0002; Internal Agency Docket No. FEMA-B-2578]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 21, 2026.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2578, to David N. Bascom, Acting Director, Engineering and Modeling Division, National Flood Insurance Program, Resilience, FEMA, 400 C Street SW, Washington, DC 20472, or (email) david.bascom@fema.dhs.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

Community | Community map repository address
Bradford County, Florida and Incorporated Areas
Project: 20-04-0049S Preliminary Date: May 29, 2025
Unincorporated Areas of Bradford County | Bradford County Zoning Department, 945 North Temple Avenue, Starke, FL 32091.
Clay County, Florida and Incorporated Areas
Project: 20-04-0049S Preliminary Date: May 29, 2025
City of Green Cove Springs | City Hall, 321 Walnut Street, Green Cove Springs, FL 32043.
City of Keystone Heights | City Hall, 555 South Lawrence Boulevard, Keystone Heights, FL 32656.
Town of Orange Park | Economic and Community Development Department, 2042 Park Ave, Orange Park, FL 32073.
Town of Penney Farms | Town Hall, 4100 Clark Avenue, Penney Farms, FL 32079.
Unincorporated Areas of Clay County | Clay County Economic and Development Services, 477 Houston Street, Green Cove Springs, FL 32043.
Duval County, Florida (All Jurisdictions)
Project: 20-04-0049S Preliminary Date: May 29, 2025
City of Jacksonville | Development Services Division, 214 North Hogan Street, Room 2100, Jacksonville, FL 32202.
Flagler County, Florida and Incorporated Areas
Project: 20-04-0049S Preliminary Date: May 29, 2025
City of Bunnell | Administration Complex, 2400 Commerce Parkway, Bunnell, FL 32110.
City of Palm Coast | Community Development Division, 160 Lake Avenue, Palm Coast, FL 32164.
Unincorporated Areas of Flagler County | Flagler County Planning and Zoning Division, 1769 East Moody Boulevard, Building 2, Bunnell, FL 32110.
Putnam County, Florida and Incorporated Areas
Project: 20-04-0049S Preliminary Date: May 29, 2025
City of Crescent City | City Hall, 3 North Summit Street, Crescent City, FL 32112.
City of Palatka | City Hall, 201 North 2nd Street, Palatka, FL 32177.
Town of Pomona Park | Town Office, 1775 U.S. Highway 17 South, Pomona Park, FL 32181.
Town of Welaka | Town Hall, 400 4th Avenue, Welaka, FL 32193.
Unincorporated Areas of Putnam County | Putnam County Government Complex, 2509 Crill Avenue, Suite 100, Palatka, FL 32177.
Volusia County, Florida and Incorporated Areas
Project: 20-04-0049S Preliminary Date: May 29, 2025
City of Daytona Beach | City Hall, 301 South Ridgewood Avenue, Daytona Beach, FL 32114.
City of DeLand | City Hall, 120 South Florida Avenue, DeLand, FL 32720.
Town of Pierson | Town Hall, 116 West 1st Avenue, Pierson, FL 32180.
Unincorporated Areas of Volusia County | Volusia County Sherriff's Office, 123 West Indiana Avenue, DeLand, FL 32720.

[FR Doc. 2026-01057 Filed 1-20-26; 8:45 am]

BILLING CODE 9110-12-P